DEPARTMENT OF COMMERCE

International Trade Administration

[A-570-863]

Honey from the People's Republic of China: Extension of Time Limit for Preliminary Results of 2004/2005 New Shipper Review

AGENCY: Import Administration, International Trade Administration, Department of Commerce.

EFFECTIVE DATE: May 19, 2006.

FOR FURTHER INFORMATION CONTACT: Kristina Boughton or Bobby Wong AD/CVD Operations, Office 9, Import Administration, International Trade Administration, U.S. Department of Commerce, 14th Street and Constitution Avenue, NW., Washington, DC 20230; telephone: (202) 482-8173 or (202) 482-0409, respectively.

SUPPLEMENTARY INFORMATION:

Background

On December 10, 2001, the Department of Commerce (the Department) published in the Federal Register an antidumping duty order covering honey from the People's Republic of China (PRC). Notice of Amended Final Determination of Sales at Less Than Fair Value and Antidumping Duty Order; Honey from the People's Republic of China, 66 FR 63670 (December 10, 2001). The Department received timely requests from Shanghai Taiside Trading Co., Ltd. (Taiside) and Wuhan Shino-Food Trade Co., Ltd. (Shino-Food), in accordance with section 751(a)(2)(B) of the Tariff Act of 1930, as amended (the Act), and 19 CFR 351.214(c), for new shipper reviews of the antidumping duty order on honey from the PRC, which has a December annual anniversary month and a June semi-annual anniversary month.

On August 5, 2005, the Department initiated a review with respect to Taiside and Shino-Food. Honey from the People's Republic of China: Initiation of New Shipper Antidumping Duty Review, 70 FR 45367 (August 5, 2005).

On January 13, 2006, the Department extended the deadline for the preliminary results to March 31, 2006. Honey from the People's Republic of China: Extension of Time Limit for Preliminary Results of 2004/2005 New Shipper Review, 71 FR 2182 (January 13, 2006). On March 9, 2006, the Department further extended the deadline for the preliminary results to May 22, 2006. Honey from the People's Republic of China: Extension of Time Limit for Preliminary Results of 2004/2005 New Shipper Review, 71 FR 12178 (March 9, 2006).

Extension of Time Limits for Preliminary Results

Section 751(a)(2)(B)(iv) of the Act, and 19 CFR 351.214(i)(1) require the Department to issue the preliminary results of a new shipper review within 180 days after the date on which the new shipper review was initiated and final results of a review within 90 days after the date on which the preliminary results were issued. The Department may, however, extend the deadline for completion of the preliminary results of a new shipper review to 300 days if it determines that the case is extraordinarily complicated. See section 751(a)(2)(B)(iv) of the Act, and 19 CFR 351.214(i)(2).

Pursuant to section 751(a)(2)(B)(iv) of the Act and 19 CFR 351.214(i)(2), the Department has determined that, due to the extraordinarily complicated nature of this review, specifically the complex issues raised in this review segment, including honey valuation and bona fides issues arising from verification, it is not practicable to complete this administrative review within the current time limit. Accordingly, the Department is extending the time limit for the completion of the preliminary results until May 30, 2006, which is the first business day 300 days from the date on which this new shipper review was initiated, in accordance with section 751(a)(2)(B)(iv) of the Act and 19 CFR 351.214(i)(2). The final results, in turn, will be due 90 days after the date of issuance of the preliminary results, unless extended.

We are issuing and publishing this notice in accordance with sections 751(a)(1) and 777(i)(1) of the Act.

Dated: May 15, 2006.
Stephen J. Claeys,
Deputy Assistant Secretary for Import Administration.

[FR Doc. E6-7680 Filed 5-18-06; 8:45 am]

BILLING CODE 3510-DS-S